DEPARTMENT OF COMMERCE

Bureau of the Census

[Docket Number 050728205-5287-02]

RIN 0607-AA45

Annual Trade Survey

AGENCY: Bureau of the Census, Commerce.

ACTION: Notice of determination.

SUMMARY: The Bureau of the Census (Census Bureau) is expanding the 2005 Annual Trade Survey (ATS) to include agents, brokers, and electronic markets (AGBR). The Bureau of Economic Analysis (BEA) has requested the expansion. The BEA considers this information vital to its accurate measurement of sales and value added for wholesale trade. These data are important inputs to BEA's preparation of National Income and Product accounts and its annual input-output tables.

EFFECTIVE DATES: The Census Bureau adopts the expanded ATS as of November 15, 2005.

ADDRESSES: The Census Bureau will furnish report forms to respondents included in the survey, and additional copies are available upon written request to the Director, Census Bureau, Washington, DC 20233-0101.

FOR FURTHER INFORMATION CONTACT: John R. Trimble, Chief, Annual Wholesale and Special Projects Branch, Service Sector Statistics Division, on (301) 763-7223 or by e-mail at John.R.Trimble@census.gov.

SUPPLEMENTARY INFORMATION: The Census Bureau is authorized to conduct surveys necessary to furnish current data on subjects covered by the major censuses authorized by Title 13, United States Code (U.S.C.), Sections 182, 224, and 225. Reporting by AGBR offices will be mandatory and will provide continuing and timely national statistical data. Data collected in this survey will be within the general scope, type, and character of those inquiries covered in the Economic Census.

The current ATS collects data for all merchant wholesalers, including manufacturers' sales branches and offices (MSBO). The expanded survey will include a selected sample of AGBRs that facilitate sales between businesses in the United States. These data will be a vital source for accurately measuring the sales, commissions, sales arranged for others, e-commerce, and operating expenses of these types of companies. The BEA has made repeated requests for this information. The expanded ATS will cover all sales from the wholesale sector compared to about 90 percent of sales in the present ATS sample.

Beginning with the survey year 2005, the goal will be to maximize industry coverage within our available resources. In order to establish reporting arrangements and reduce respondent burden, we will mail report forms to a sample of firms on a company basis and contact them in person, as well as by phone and mail. We will mail firms in the survey an introduction letter, report forms, and a flyer instructing them how to reply electronically. We request that forms be completed and returned 30 days after receipt. The report forms will request similar data items, but different forms will be used to accommodate wholesale distributors, MSBO, and AGBR companies, as well as both large and small firms. Later, if necessary, additional mail follow-ups and telephone follow-ups will be conducted.

The primary users of these data are federal, state, and local government agencies, including the Census Bureau, the Bureau of Labor Statistics, and BEA. Other users include business firms, academics, trade associations, and research and consulting organizations.

On September 20, 2005 (70 FR 55104), the Census Bureau published in the Federal Register a notice and request for comments on the expansion of the ATS. We received two comments that were not responsive to the solicitation. Accordingly, the Census Bureau is adopting, without change, its proposal to include agents, broker, and electronic markets in the 2005 Annual Trade Survey.

Executive Order 12866

This notice has been determined to be not significant for purposes of Executive Order 12866.

Regulatory Flexibility Act

The Chief Counsel for Regulation of the Department of Commerce certified to the Chief Counsel for Advocacy of the Small Business Administration that this notice would not have a significant economic impact on a substantial number of small entities. The factual basis for this certification was published in the earlier notice and request for comment (09/20/05; 70 FR 55104). No comments were received regarding the economic impact of that notice. As a result, no final regulatory flexibility analysis was prepared.

Paperwork Reduction Act

Notwithstanding any other provision of law, no person is required to respond to, nor shall a person be subject to a penalty for failure to comply with, a collection of information subject to requirements of the Paperwork Reduction Act (PRA) unless that collection of information displays a current valid Office of Management and Budget (OMB) control number. This notice contains a collection of information subject to the requirements of the PRA (44 U.S.C. 3501 et seq.). In accordance with the PRA, OMB approved on September 21, 2005, with control number 0607-0195, the collection of all information associated with this notice. We estimate the number of additional respondents to be 390 and estimate an additional 677 annual burden hours with this expanded data collection. Also, we estimate that the time for the additional responses associated with this data collection will be approximately 28 minutes. We will furnish report forms to organizations included in the survey, and additional copies will be available upon written request to the Director, U.S. Census Bureau, Washington, DC 20233-0101.

Dated: November 9, 2005.
Charles Louis Kincannon,
Director, Bureau of the Census.

[FR Doc. 05-22598 Filed 11-15-05; 8:45 am]

BILLING CODE 3510-07-P